DEPARTMENT OF COMMERCE

National Oceanic and Atmospheric Administration

[I.D. 080502H]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Habitat Oversight Committee and Scientific and Statistical Committee in August, 2002 to consider actions affecting New England fisheries in the exclusive economic zone (EEZ). Recommendations from these groups will be brought to the full Council for formal consideration and action, if appropriate.

DATES: The meetings will be held August 27-28, 2002. See SUPPLEMENTARY INFORMATION for specific dates and times.

ADDRESSES: The meetings will be held in Mansfield and Newburyport, MA. See SUPPLEMENTARY INFORMATION for specific locations.

Council address: New England Fishery Management Council, 50 Water Street, Mill 52, Newburyport, MA 01950.

FOR FURTHER INFORMATION CONTACT: Paul J. Howard, Executive Director, New England Fishery Management Council; (978) 465-0492.

SUPPLEMENTARY INFORMATION:

Meeting Dates and Agendas

Tuesday, August 27, 2002, 10 a.m.-Scientific and Statistical Committee Meeting

Location: Rossi’s Restaurant, 50 Water Street, Mill #2, Newburyport, MA 01950; telephone: (978) 499-0240.

The committee will elect a chair and vice-chair. The agenda will include providing guidance to the Council on scallop management reference points as well as monkfish management reference points.

Wednesday, August 28, 2002, 9:30 a.m.-Habitat Oversight Committee Meeting

Location: Holiday Inn, 31 Hampshire Street, Mansfield, MA 02048; telephone: (508) 339-2200.

The agenda will include consideration and approval of methods for minimizing the effects of scallop fishing on essential fish habitat for Amendment 10 to the Scallop Fishery Management Plan (FMP). There will also be discussion of habitat issues in Scallop Framework 15. The committee will also discuss ongoing analyses for Amendment 13 to the Multispecies FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: August 7, 2002.
Richard W. Surdi,
Acting Director, Office of Sustainable Fisheries, National Marine Fisheries Service.

[FR Doc. 02-20383 Filed 8-9-02; 8:45 am]

BILLING CODE 3510-22-S